DEPARTMENT OF LABOR

Comment Request for Information Collection for Jobs for Veterans Act Priority of Service Provisions: OMB Control No. 1205-0468, Extension Without Revisions

AGENCY: Employment and Training Administration.

ACTION: Notice.

SUMMARY: The Department of Labor, as part of its continuing effort to reduce paperwork and respondent burden conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the extension of OMB Control No. 1205-0468, Jobs for Veterans Act, Priority of Service Provisions (currently expires July 31, 2010).

A copy of the proposed Information Collection Request (ICR) can be obtained by contacting the office listed below in the addressee section of this notice.

DATES: Written comments must be submitted to the office listed in the addressee's section below on or before June 7, 2010.

ADDRESSES: Submit written comments to Michael Qualter, Office of Workforce Investment, Room S-4209, Employment and Training Administration, 200 Constitution Avenue, NW., Washington, DC 20210. Telephone number: 202-693-3014 (this is not a toll-free number). Fax: 202-693-3587. E-mail: Qualter.Michael@dol.gov, subject line: JVA Priority of Services ICR Extension.

SUPPLEMENTARY INFORMATION:

I. Background

The Jobs for Veterans Act of 2002 enacted a new priority of service requirement for veterans and eligible spouses in all DOL-funded employment and training programs (codified at 38 U.S.C. 4215). The Department of Labor (DOL) has implemented that requirement through issuance of a final rule at 20 CFR Part 1010, which took effect on January 19, 2009. In conjunction with the issuance of the final rule on priority of service, DOL also published an ICR which was approved by OMB under OMB Control Number 1205-0468. Prior to the publication of the Final Rule on December 19, 2008, DOL had received OMB approval of the Workforce Investment Streamlined Performance Reporting (WISPR) System, under OMB Control Number 1205-0469.

The Department originally intended that both of these new requirements would be implemented for PY 2009. To minimize the impact of these requirements upon the States, it also was DOL's intent to implement the specific priority of service reporting requirement in conjunction with the implementation of the generic integrated reporting and performance measurement requirement. However, the approval of the priority of service reporting requirement also includes a back-up plan for collecting the required information within the context of the current reporting and performance measurement systems. Early in 2009, DOL, with OMB's concurrence, delayed the implementation of both requirements in light of the impact of the current recession on the public workforce system, as well as the impact of the various initiatives authorized under the American Reinvestment and Recovery Act (ARRA), in response to the recession.

It is the Department's intent to implement both reporting requirements as soon as circumstances permit. Therefore, this extension is requested so that the DOL will retain the option to implement the priority of service reporting requirement as soon as possible, whether in conjunction with the implementation of the new system or independently within the context of the current reporting and performance measurement systems.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension without change.

Title: Jobs for Veterans Act Priority of Services Provisions.

OMB Number: 1205-0468.

Affected Public: Administrators of qualified job training programs, as defined in the Jobs for Veterans Act, Section 4215(a)(2), Covered Entrants, and New Covered Participants.

Form(s): Priority of Service Aggregate Quarterly Report and Individual Record Data Elements.

Total Respondents: 237.

Frequency: Quarterly.

Total Annual Responses: 948 (237 × 4 times per year).

Average Time per Response: 168.7 hours (includes the time needed to complete over 1.5 million individual records).

Estimated Total Annual Burden Hours: 159,429.

Total Burden Cost for Respondents: 0.

Comments submitted in response to this comment request will be summarized and/or included in the request for the Office of Management and Budget's approval of this information collection request; they will also become a matter of public record.

Signed: at Washington, DC, this 1st day of April 2010.
Jane Oates,
Assistant Secretary, Employment and Training Administration.

[FR Doc. 2010-7816 Filed 4-6-10; 8:45 am]

BILLING CODE 4510-FN-P